DEPARTMENT OF HEALTH AND HUMAN SERVICES

National Institutes of Health

National Cancer Institute Amended; Notice of Meeting

Notice is hereby given of a change in the meeting of the National Cancer Institute Special Emphasis Panel, July 08, 2013, 12:00 p.m. to July 08, 2013, 02:00 p.m., National Cancer Institute Shady Grove, 9609 Medical Center Drive, 7W030, Rockville, MD, 20850 which was published in the Federal Register on May 23, 2013, 78FR30933.

The meeting notice is amended to change the meeting room, date and time of the meeting to Room 7W110, July 24, 2013, 1:00 p.m.-2:30 p.m. The meeting is being held as a teleconference. The meeting is closed to the public.

Dated: June 20, 2013.
Melanie J. Gray,
Program Analyst, Office of Federal Advisory Committee Policy.

[FR Doc. 2013-15200 Filed 6-25-13; 8:45 am]

BILLING CODE 4140-01-P